DEPARTMENT OF ENERGY

Federal Energy Regulatory Commission

[Docket No. RM05-30-000]

Rules Concerning Certification of the Electric Reliability Organization; and Procedures for the Establishment, Approval and Enforcement of Electric Reliability Standards; Notice of New Docket Prefixes “RR”, “RD”, and RC for Reliability Organizations and Standards

April 7, 2006.

Notice is hereby given that new docket prefixes “RR”, “RD”, and “RC” have been established for certain filings pursuant to Order No. 672, issued February 3, 2006.¹

¹ Rules Concerning Certification of the Electric Reliability Organization; and Procedures for the Establishment, Approval, and Enforcement of Electric Reliability Standards (Order No. 672), 114 FERC 61,104 (2006).

The prefixes are defined as:

RR—ERO Rules and Organizational Filings,

RD—Electric Reliability Standards,

RC—Compliance and Enforcement of Reliability Standards and the following examples illustrate the types of reliability organization filings that fall under each of the new prefixes.

A. RR Prefix Filings—ERO Rules and Organizational Filings

1. Application for certification as the Electric Reliability Organization [39.3(a)].

2. The ERO's assessment of its performance [39.3(c)].

3. Request to modify the formula or method for the allocation and assessment of ERO dues, fees and charges [39.4(a)].

4. The ERO's proposed annual budget, including the annual budget for each Regional Entity [39.4(b)].

5. Request for authorization to collect a special assessment [39.4(d)].

6. Request for approval of penalty guidelines that set forth a range of penalties for the violation of Reliability Standards [39.7(g)(2)].

7. Agreement to delegate authority to a Regional Entity for the purpose of proposing Reliability Standards to the ERO and enforcing Reliability Standards [39.8(c)].

8. Application for assignment to an entity of the ERO's authority to enforce Reliability Standards within the entity's region [39.8(f)].

9. Request for approval of any proposed ERO Rule or Rule change or proposed Regional Entity Rule or Rule change [39.10(a)].

10. Petition to establish a Regional Advisory Body [39.13(a)].

B. RD Prefix Filings—Electric Reliability Standards

1. Each proposed Reliability Standard or modification to a Reliability Standard that is processed as an Order (a proposed reliability standard processed as a rulemaking will be designated an RM docket prefix) [39.5(a)].

2. Notification of the possible conflict of a Reliability Standard with a function, rule, order, tariff, rate schedule, or agreement accepted, approved, or ordered by the Commission [39.6(a)].

3. Application for a determination of consistency of a state action with a Reliability Standard [39.12(b)].

C. RC Prefix Filings—Compliance and Enforcement of Reliability Standards

1. Report to the Commission of any self-reported violation or investigation of a violation or an alleged violation of a Reliability Standard and its eventual disposition [39.7(b)].

2. Such periodic summary reports as the Commission shall from time to time direct on violations of Reliability Standards [39.7(b)(5)].

3. Notice of penalty for violation of a Reliability Standard [39.7(c)(2)].

4. Application for review of a penalty [39.7(e)(1)].

5. Report on the ERO's assessment of the reliability of the Bulk-Power System in North America [39.11(a)].

6. Report on the ERO's assessment of the adequacy of the Bulk-Power System in North America [39.11(b)].

7. Notice of proposed penalty, filed by ERO.

Magalie R. Salas,
Secretary.

[FR Doc. E6-5560 Filed 4-13-06; 8:45 am]

BILLING CODE 6717-01-P